DEPARTMENT OF ENERGY

Federal Energy Regulatory Commission

Combined Notice of Filings #1

Take notice that the Commission received the following electric rate filings:

Docket Numbers: ER14-1845-000.

Applicants: PacifiCorp.

Description: Termination of PAC Energy Construction Agreements (Leaning Juniper & Goodnoe Hill to be effective 7/15/2014.

Filed Date: 5/1/14.

Accession Number: 20140501-5354.

Comments Due: 5 p.m. ET 5/22/14.

Docket Numbers: ER14-1846-000.

Applicants: Independence Energy Group LLC.

Description: Revised Market-Based Rate Tariff to be effective 5/2/2014.

Filed Date: 5/1/14.

Accession Number: 20140501-5359.

Comments Due: 5 p.m. ET 5/22/14.

Docket Numbers: ER14-1847-000.

Applicants: Norwalk Power LLC.

Description: Revised Market-Based Rate Tariff to be effective 5/2/2014.

Filed Date: 5/1/14.

Accession Number: 20140501-5360.

Comments Due: 5 p.m. ET 5/22/14.

Docket Numbers: ER14-1848-000.

Applicants: NRG New Jersey Energy Sales LLC.

Description: Revised Market-Based Rate Tariff to be effective 5/2/2014.

Filed Date: 5/1/14.

Accession Number: 20140501-5361.

Comments Due: 5 p.m. ET 5/22/14.

Docket Numbers: ER14-1849-000.

Applicants: Reliant Energy Northeast LLC.

Description: Revised Market-Based Rate Tariff to be effective 5/2/2014.

Filed Date: 5/1/14.

Accession Number: 20140501-5362.

Comments Due: 5 p.m. ET 5/22/14.

Docket Numbers: ER14-1850-000.

Applicants: NRG Sterlington Power LLC.

Description: Revised Market-Based Rate Tariff to be effective 5/2/2014.

Filed Date: 5/1/14.

Accession Number: 20140501-5363.

Comments Due: 5 p.m. ET 5/22/14.

Docket Numbers: ER14-1851-000.

Applicants: NRG Wholesale Generation LP.

Description: Revised Market-Based Rate Tariff to be effective 5/2/2014.

Filed Date: 5/1/14.

Accession Number: 20140501-5364.

Comments Due: 5 p.m. ET 5/22/14.

Docket Numbers: ER14-1852-000.

Applicants: Louisiana Generating LLC.

Description: Revised Market-Based Rate Tariff to be effective 5/2/2014.

Filed Date: 5/1/14.

Accession Number: 20140501-5366.

Comments Due: 5 p.m. ET 5/22/14.

Docket Numbers: ER14-1853-000.

Applicants: Cottonwood Energy Company LP.

Description: Revised Market-Based Rate Tariff to be effective 5/2/2014.

Filed Date: 5/1/14.

Accession Number: 20140501-5367.

Comments Due: 5 p.m. ET 5/22/14.

Docket Numbers: ER14-1854-000.

Applicants: Big Cajun I Peaking Power LLC.

Description: Revised Market-Based Rate Tariff to be effective 5/2/2014.

Filed Date: 5/1/14.

Accession Number: 20140501-5368.

Comments Due: 5 p.m. ET 5/22/14.

Docket Numbers: ER14-1855-000.

Applicants: North Community Turbines LLC.

Description: Revised Market-Based Rate Tariff to be effective 5/2/2014.

Filed Date: 5/1/14.

Accession Number: 20140501-5369.

Comments Due: 5 p.m. ET 5/22/14.

Docket Numbers: ER14-1856-000.

Applicants: North Wind Turbines LLC.

Description: Revised Market-Based Rate Tariff to be effective 5/2/2014.

Filed Date: 5/1/14.

Accession Number: 20140501-5370.

Comments Due: 5 p.m. ET 5/22/14.

Docket Numbers: ER14-1857-000.

Applicants: Southern California Edison Company.

Description: Request for recovery in formula rate for incurred abandoned costs associated in the City of Chino Hills, California Underground Project of Southern California Edison Company.

Filed Date: 5/1/14.

Accession Number: 20140501-5421.

Comments Due: 5 p.m. ET 5/22/14.

Take notice that the Commission received the following land acquisition reports:

Docket Numbers: LA14-1-000.

Applicants: Macho Springs Solar, LLC., SG2 Imperial Valley, LLC.

Description: Quarterly Land Acquisition Report of First Solar Inc.

Filed Date: 5/1/14.

Accession Number: 20140501-5426.

Comments Due: 5 p.m. ET 5/22/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 2, 2014.
Kimberly D. Bose,
Secretary.

[FR Doc. 2014-10707 Filed 5-8-14; 8:45 am]

BILLING CODE 6717-01-P